DEPARTMENT OF ENERGY

Federal Energy Regulatory Commission

[FERC Docket No. PF08-9-000]

Notice of Pre-Filing Environmental Review for the Ruby Pipeline Project, Request for Comments on Environmental Issues, and Notice of Public Scoping Meetings; Ruby Pipeline, LLC

March 28, 2008.

On January 31, 2008, the staff of the Federal Energy Regulatory Commission (FERC or Commission) initiated its pre-filing environmental review of the Ruby Pipeline Project, planned by Ruby Pipeline, LLC (Ruby). FERC staff is now beginning to obtain and evaluate information for the preparation of an environmental impact statement (EIS) that will assess and disclose the environmental impacts of the project, which would involve construction and operation of facilities by Ruby in Wyoming, Utah, Nevada, and Oregon. These facilities would consist of about 680 miles of 42-inch-diameter pipeline, 2 new compressor stations, and related appurtenant facilities. The EIS will be used by the Commission in its decision-making process to determine if the project is in the public convenience and necessity.

This notice announces the opening of a scoping period that will be used to gather environmental input from the public and agencies during the early stages of the project. Comments may be submitted either in written form or verbally. In lieu of or in addition to sending written comments, you are invited to attend the public scoping meetings scheduled in the project area. Further instructions on how to submit written comments and additional details of the public scoping meetings are provided in the Public Participation section of this notice. The scoping period will close on April 30, 2008.

WEEK 1

April 15, 2008—Elko, Nevada, Hilton Garden Inn, 3650 East Idaho St., (775) 777-1200.

April 16, 2008—Kemmerer, Wyoming, Kemmerer Senior Center, 105 JC Penney Drive, (307) 877-3806.

April 17, 2008—Brigham City, Utah, Box Elder High School Auditorium, 380 South 600 West, (435) 734-4840.

WEEK 2

April 22, 2008—Malin, Oregon, Malin Community Hall, 2307 Front Street, (541) 947-2258.

April 23, 2008—Lakeview, Oregon, Elks Lodge, 323 N. F Street, (541) 947-2258.

April 24, 2008—Winnemucca, Nevada, Winnemucca Convention Center, 50 W. Winnemucca Blvd., (775) 23-5071.

These meetings are designed to provide state and local agencies, interested groups, affected landowners, and the general public with an opportunity to offer comments on the project and on the environmental issues they believe should be addressed in the EIS. A transcript of each meeting will be made so that your comments will be accurately recorded. All meetings are scheduled to begin at 7 p.m. in each respective time zone. All public meetings will be posted on the Commission's calendar located at http://www.ferc.gov/EventCalendar/EventsList.aspx along with other related information.

Comments collected during scoping will be a valuable part of the Pre-Filing Process and will help us ¹ determine which issues/impacts need to be evaluated in the EIS. As more details of the project route and design become available, additional scoping may be warranted and the public will be provided with additional opportunities to comment.

¹ “We,” “us,” and “our” refer to the environmental staff of the Commission's Office of Energy Projects.

A “Pre-Filing Process” Has Begun

The Commission is initiating its National Environmental Policy Act (NEPA) review for the Ruby Pipeline Project prior to receiving Ruby's formal application. This Pre-Filing Process allows interested stakeholders to become involved early in the project planning with the intent of identifying and resolving issues before a formal application is filed with the FERC. A docket number (PF08-9-000) has been established to place information filed by Ruby and related documents issued or received by the Commission into the public record.² Once a formal application is filed with the FERC, a new docket number will be established.

² To view information in the docket, follow the instructions for using the eLibrary link at the end of this notice.

The U.S. Bureau of Land Management (BLM) is participating as a cooperating agency in the preparation of the EIS because the project would cross federally administered lands in Wyoming, Utah, Nevada, and Oregon. The U.S. Forest Service (USFS) is also participating as a cooperating agency because the project would cross the Cache and Fremont-Winema National Forests in Utah and Oregon, respectively. As a cooperating agency, the BLM intends to adopt the EIS per Title 40 of the Code of Federal Regulations (CFR), Part 1506.3 to meet its responsibilities under NEPA regarding Ruby's application for a Right-of-Way Grant and Temporary Use Permit for crossing federally administered lands, including the Cache and Fremont-Winema National Forests. The concurrence or non-concurrence of the USFS would be considered in the BLM's decision as well as impacts on resources and programs, and the proposed project's conformance with land use plans.

With this notice, we are asking other federal, state, local, and tribal agencies with jurisdiction and/or special expertise with respect to environmental issues in the project area to formally cooperate with us in the preparation of the EIS. These agencies may choose to participate once they have evaluated Ruby's proposal relative to their responsibilities. Agencies which would like to request cooperating status should follow the instructions for filing comments described later in this notice. We encourage government representatives to notify their constituents of this planned project and encourage them to comment on their areas of concern.

This notice is being sent to potentially affected landowners along and adjacent to the project route and within 0.5 mile of proposed compressor station sites; federal, state, and local government agencies; elected officials; environmental and public interest groups; Native American tribes; local libraries and newspapers; and other interested parties.

To assist potentially affected landowners, a fact sheet prepared by the FERC entitled “An Interstate Natural Gas Facility On My Land? What Do I Need To Know?” addresses a number of typically asked questions, including the potential use of eminent domain and how to participate in the Commission's proceedings. It is available for viewing on the FERC Internet Web site (http://www.ferc.gov).

Summary of the Proposed Project

Ruby is proposing to construct a new pipeline system in order to transport natural gas reserves in the Rocky Mountain region to the growing markets in the Western United States. Specifically, Ruby is proposing to construct the following facilities:

• Approximately 680 miles of 42-inch-diameter pipeline between the Opal Hub in Lincoln County, Wyoming and the Malin Hub in Klamath County, Oregon;

• Two new compressor stations located in Lincoln County, Wyoming and Elko County, Nevada;

• 5 metering facilities;

• 40 mainline block valves; and

• 10 pig launcher/receivers facilities.³

³ A pipeline “pig” is a device designed to internally clean or inspect the pipeline. A pig launcher/receiver is an aboveground facility where pigs are inserted or retrieved from the pipeline.

A map depicting the general location of project facilities is shown in Figure 1.⁴ Ruby has identified a preferred project route, which is shown on the map as a dark solid line. Ruby had originally considered a more northern route coming out of Wyoming, as shown on the map as a dotted red line. Although no longer preferred by Ruby, we are currently including the northern route in our evaluation as a route alternative.

⁴ Figure 1 (general project map) is not being printed in the Federal Register. Copies are available on the Commission's Internet Web site (www.ferc.gov) at the “eLibrary” link or from the Commission's Public Reference Room at (202) 502-8371. For instructions on connecting to eLibrary, refer to the Additional Information section at the end of this notice. The project map was sent to all those receiving this notice in the mail. Requests for detailed maps of the proposed facilities should be made directly to Ruby by calling 1-877-598-5263 (toll free) or 719-520-4450.

The project, if completed, would have a capacity for transporting approximately 1.2 billion cubic feet of natural gas per day. Ruby anticipates filing its formal application with the FERC in January 2009 and would request approval such that the proposed facilities are put into service in the first quarter of 2011. By this schedule, construction of the Ruby Pipeline Project would begin in the first or second quarter of 2010.

Land Requirements for Construction

Ruby would use a nominal 115-foot-wide construction right-of-way for the project. Additional work area would be required at certain feature crossings (e.g., waterbodies, wetlands, roads, and railroads), staging areas, pipe yards, contractor's yards, and widening of certain access roads.

Based on preliminary information, we estimate that construction of the proposed facilities would disturb about 12,000 acres of land. Of the 12,000 acres, about 8,000 acres would be temporarily disturbed and about 4,000 acres would be permanently maintained for operation of the pipeline within a 50-foot-wide permanent right-of-way and as aboveground facility sites. Following construction, all temporary workspaces would be restored and allowed to revert to former use. About 60 percent of the proposed route would cross federally administered land managed by the BLM or USFS.

The EIS Process

The FERC will be the lead federal agency for the preparation of the EIS. As noted above, the BLM and USFS will be cooperating agencies. NEPA requires the FERC to take into account the environmental impacts that could result from an action whenever it considers the issuance of a Certificate of Public Convenience and Necessity under Section 7 of the Natural Gas Act. NEPA also requires us to identify and address concerns the public may have about proposals. This is the “scoping” process referred to earlier. The main goal of the scoping process is to focus the analysis in the EIS on important environmental issues and reasonable alternatives. By this Notice, we are requesting agency and public comments on the scope on the issues to be addressed in the EIS. All comments received will be considered during the preparation of the EIS.

We have already started to meet with Ruby personnel, agencies, and other interested stakeholders to discuss the project and identify issues/impacts and concerns. Between February 19 and March 18, 2008, representatives of FERC staff participated in public open houses sponsored by Ruby in the project area. FERC staff explained the NEPA environmental review process to interested stakeholders and noted comments related to the project.

Our independent analysis of the issues will be included in a draft EIS. The draft EIS will be mailed to federal, state, and local government agencies; elected officials; environmental and public interest groups; Native American tribes; affected landowners; other interested parties; local libraries and newspapers; and the FERC's official service list for this proceeding. A comment period will be allotted for review of the draft EIS. We will consider all timely comments on the draft EIS and revise the document, as necessary, before issuing a final EIS.

Public Participation

You are encouraged to become involved in this process and provide your specific comments or concerns about Ruby's planned project. Your comments should focus on the potential environmental effects, reasonable alternatives, and measures to avoid or lessen environmental impacts. The more specific your comments, the more useful they will be. If you wish to mail comments, please carefully follow these instructions:

• Send an original and two copies of your letter to:

Kimberly D. Bose, Secretary, Federal Energy Regulatory Commission, 888 First Street, NE.; Room 1A, Washington, DC 20426.

• Label one copy of your comments for the attention of Gas 1, DG2E; and

• Reference Docket No. PF08-9-000 on the original and both copies.

• Mail your comments so that they will be received in Washington, DC, on or before April 30, 2008.

The Commission encourages electronic filing of comments. See 18 CFR 385.2001(a)(1)(iii) and the instructions on the Commission's Internet Web site at http://www.ferc.gov under the link to “Documents and Filings” and “eFiling.” eFiling is a file attachment process and requires that you prepare your submission in the same manner as you would if filing on paper, and save it to a file on your computer's hard drive. New eFiling users must first create an account by clicking on “Sign up” or “eRegister.” You will be asked to select the type of filing you are making. This filing is considered a “Comment on Filing.” In addition, there is a “Quick Comment” option available, which is an easy method for interested persons to submit text only comments on a Project. The Quick-Comment User Guide can be viewed at www.ferc.gov/docs-filing/efiling/quick-comment-guide.pdf. Quick Comment does not require a FERC eRegistration account; however, you will be asked to provide a valid e-mail address. All comments submitted under either eFiling or the Quick Comment option are placed in the public record for the specified docket or Project number(s). Comments submitted electronically must be submitted by April 30, 2008.

Availability of Additional Information

Additional information about the Project is available from the FERC's Office of External Affairs at 1-866-208-FERC or on the FERC Internet Web site (http://www.ferc.gov) using the eLibrary link. Click on the eLibrary link, click on “General Search,” and enter the docket number excluding the last three digits in the Docket Number field (i.e., PF08-9). Be sure you have selected an appropriate date range. For assistance, please contact FERC Online Support at FERCOnlineSupport@ferc.gov or toll free at 1-866-208-3676, or for TTY, contact (202) 502-8659. The eLibrary link on the FERC Internet Web site also provides access to the text of formal documents issued by the Commission, such as orders, notices, and rulemakings.

In addition, the FERC now offers a free service called eSubscription that allows you to keep track of all formal issuances and submittals in specific dockets. This can reduce the amount of time you spend researching proceedings by automatically providing you with notification of these filings, document summaries, and direct links to the documents. To register for this service, go to the eSubscription link on the FERC Internet Web site (http://www.ferc.gov/docs-filing/esubscription.asp). Information concerning the involvement of the BLM in the EIS process may be obtained from Mark Mackiewicz, PMP, National Project Manager, at (435) 636-3616. Information concerning the involvement of the USFS may be obtained from Catherine Callaghan at the Fremont-Winema National Forest at (541) 947-2151, and David Ream (801) 236-3400 at the Wasatch-Cache National Forest.

Kimberly D. Bose,
Secretary.

[FR Doc. E8-7104 Filed 4-4-08; 8:45 am]

BILLING CODE 6717-01-P